DEPARTMENT OF ENERGY

Federal Energy Regulatory Commission

[Project No. 7019-050, Georgia]

Eastern Hydroelectric Corporation; Notice of Availability of Environmental Assessment

September 15, 2000.

An environmental assessment (EA) is available for public review. The EA analyzes the environmental effects of increasing generating capacity. Eastern Hydroelectric Corporation (EHC) requests approval to add a new 1,200-kW generating unit at the East Juliette Project on the Ocmulgee River. EHC proposes to reconstruct a building on an existing foundation at the west side of the Juliette Dam to house the new generating unit and associated power production equipment. EHC does not propose to alter the current license requirement that requires a minimum flow of 297 cubic feet per second be maintained in the bypass reach. EHC proposes to conduct additional studies to investigate the feasibility, optimal design, and future construction of a fishway for anadromous fish at the Juliette Dam.

The EA was written by Federal Energy Regulatory Commission staff in the Office of Energy Projects. Commission staff believe EHC's proposed action would not constitute a major federal action significantly affecting the quality of the human environment. Copies of the EA can be viewed on the internet at www.ferc.fed.us/online/rims.htm. Call (202) 208-2222 for assistance. Copies are also available for inspection and reproduction at the Commission's Public Reference Room located at 888 First Street, NE, Room 2A, Washington DC 20426, or by calling (202) 208-1371.

Anyone may file comments on the EA. Federal and state resource agencies are encouraged to provide comments. All comments must filed within 30 days of the date of this notice shown above. Send an original and eight copies of all comments marked with the project number P-7019-050 to: The Secretary, Federal Energy Regulatory Commission, 888 First Street, NE, Washington, DC 20426. If you have any questions regarding this notice, please call Jarrad Kosa at (202) 219-2831.

David P. Boergers,
Secretary.

[FR Doc. 00-24201 Filed 9-21-00; 8:45 am]

BILLING CODE 6717-01-M